SOCIAL SECURITY ADMINISTRATION

Ticket To Work and Work Incentives Advisory Panel Meeting

AGENCY: Social Security Administration (SSA).

ACTION: Notice; correction.

SUPPLEMENTARY INFORMATION: The Social Security Administration published a document in the Federal Register of April 17, 2001, concerning a meeting of the Ticket to Work and Work Incentives Advisory Panel. The document contained information that has changed for the meeting times and the agenda including times for the public comment period.

FOR FURTHER INFORMATION CONTACT: Kristen M. Breland, 202-358-6423.

Corrections

1. In the Federal Register of April 17, 2001, in FR Doc. 01-9511, on page 19829, in the second column, correct the “Date” to read:

Dates:

May 8, 2001, 10 a.m.-6:30 p.m.

May 9, 2001, 9 a.m.-5 p.m.

May 10, 2001, 9 a.m.-4 p.m.

2. In the Federal Register of April 17, 2001, in FR Doc. 01-9511, on page 19829, in the second column, correct the “Address” to read:

Address: Almas Temple, Oasis Room, 1315 K Street, NW., Washington, DC 20005, 202-898-1688.

On Tuesday, May 8, 2001 from 4:30 p.m. to 6:30 p.m. ONLY, the public meeting reconvenes at the Ticket to Work and Work Incentives Advisory Panel Office, Social Security Administration, 400 Virginia Avenue, SW., Suite 700, Washington, DC 20024; 202-358-6430.

3. In the Federal Register of April 17, 2001, in FR Doc. 01-9511, on page 19830, in the first column, correct the “Agenda” to read:

Agenda: The Public Testimony Comment Period on Ticket to Work and Work Incentives Improvement Act Implementation is now scheduled only on Wednesday, May 9, 2001 from 9:15 a.m. to 10:15 a.m.

Dated: April 30, 2001.
Deborah M. Morrison,
Designated Federal Officer.

Corrected Agenda

Ticket To Work and Work Incentives Advisory Panel, Public Meeting Agenda

Almas Temple, Oasis Room, 1315 K Street, NW., Washington, DC 20005,

202-898-1688

May 8, 9, and 10, 2001

Tuesday, May 8, 2001, Day 1

10:00 a.m.

Meeting Called to Order by Deborah Morrison, Designated Federal Officer

10:00 a.m. to 10:30 a.m.

Welcome, Introductions and Review of the Agenda, Sarah Wiggins Mitchell, Chair, Presiding

10:30 a.m. to 12:00 p.m.

Update on TWWIIA Implementation

12:00 p.m. to 1:30 p.m.

Lunch (On Your Own)

1:30 p.m.

Meeting Reconvenes, Sarah Wiggins Mitchell, Presiding

1:30 p.m. to 2:30 p.m.

Update on TWWIIA Implementation

2:30 p.m. to 3:30 p.m.

Breakout sessions:

Planning and Operations Committee

Evaluation Committee

4:30 p.m. to 6:30 p.m.

Open House and Web site Launch

The public meeting reconvenes at the Ticket to Work and Work Incentives Advisory Panel Office, Social Security Administration, 400 Virginia Avenue, SW, Suite 700, Washington, DC 20024, Phone: 202-358-6430.

Welcome—Sarah Wiggins Mitchell, Presiding

Opening Remarks and Review Agenda

Introduction of Panel Members and Staff

Year One in Review—Annual Interim Progress Report

Presentation and Launch of New Advisory Panel Web Site

Hands-on Demonstration of Panel's New Web Site www.ssa.gov/work/panel

Discussion

6:30 p.m.

Adjournment

Wednesday, May 9, 2001, Day 2

Meeting reconvenes at Almas Temple, Oasis Room, 1315 K Street, NW, Washington, DC 20005, 202-898-1688.

9:00 a.m.

Meeting Reconvened, Sarah Mitchell, Chair, Presiding

9:15 a.m. to 10:15 a.m.

Public Testimony Comment Period on TWWIIA Implementation

10:15 a.m. to 10:45 a.m.

Break

10:45 a.m. to 12:00 p.m.

Update on TWWIIA Implementation

12:00 p.m. to 1:30 p.m.

Lunch (On Your Own)

1:30 p.m.

Meeting Reconvenes, Sarah Wiggins Mitchell, Chair, Presiding

1:30 p.m. to 3:00 p.m.

Panel Deliberations on Final Advice Report

3:00 p.m. to 3:30 p.m.

Break

3:30 p.m. to 5:00 p.m.

Continuation of Panel Deliberations on Final Advice Report

Please Note: In the event that the public comments do not take up the scheduled time period, the Panel will use that time to deliberate and conduct other Panel business.

Thursday, May 10, 2001 Day Three

9:00 a.m. to 9:30 a.m.

Meeting Reconvened and Opening Remarks, Sarah Wiggins Mitchell, Chair, Presiding

9:30 a.m. to 10:30 a.m.

Update on TWWIIA Implementation

10:30 a.m. to 11:00 a.m.

Break

11:00 a.m. to 12:00 p.m.

Panel Deliberation on Final Advice Report

12:00 p.m. to 1:30 p.m.

Lunch (On Your Own)

1:30 p.m.

Meeting Reconvenes, Sarah Mitchell, Presiding

1:30 p.m. to 2:30 p.m.

Panel Deliberations and Committee Reports

2:30 p.m. to 4:00 p.m.

Quarterly Business Meeting

Ticket to Work and Work Incentives Advisory Panel Quarterly Business Meeting—2:30 p.m. to 4:00 p.m.

I. Call to Order

II. Approval Minutes of Previous Meetings

February 6, 7 and 8, 2001

March 26, 27 and 28, 2001

III. Administrative Report from Executive Director

IV. Reports from Committees

Evaluation Committee

Planning and Operations Committee

V. Unfinished Business

VI. New Business

VII. Next Meeting

VIII. Wrap-up

4:00 p.m.

Adjournment

[FR Doc. 01-11325 Filed 5-1-01; 4:48 pm]

BILLING CODE 4191-02-P